DEPARTMENT OF THE INTERIOR

Bureau of Land Management

[LLNML00000 L16100000.DU0000]

Notice of Intent To Prepare an Environmental Assessment for the Proposed Gila Lower Box Area of Critical Environmental Concern, Hidalgo and Grant Counties, New Mexico and Possible Land Use Plan Amendment

AGENCY: Bureau of Land Management, Interior.

ACTION: Notice of Intent.

SUMMARY: In compliance with the National Environmental Policy Act of 1969, as amended (NEPA), and the Federal Land Policy and Management Act of 1976, as amended, the Bureau of Land Management (BLM) Las Cruces District Office, Las Cruces, New Mexico, intends to prepare an Environmental Assessment (EA) and a possible amendment to the 1993 Mimbres Resource Management Plan (RMP), and by this notice is announcing the beginning of the scoping process to solicit public comments and identify issues and planning criteria.

DATES: This notice initiates the public scoping process for the EA. Comments on issues may be submitted in writing until July 13, 2011. The date(s) and location(s) of any scoping meetings will be announced at least 15 days in advance through local media, newspapers, and the BLM Web site at: http://www.blm.gov/nm/st/en/fo/Las_Cruces_District_Office.html. To be included in the EA, all comments must be received prior to the close of the scoping period. We will provide additional opportunities for public participation upon publication of the Draft EA.

ADDRESSES: You may submit comments on issues and planning criteria related to the EA by any of the following methods:

• Web site: http://www.blm.gov/nm/st/en/fo/Las_Cruces_District_Office/LCDO_Planning.html.

• E-mail: Jennifer_Montoya@nm.blm.gov.

• Fax: 575-525-4412.

• Mail: 1800 Marquess Street, Las Cruces, New Mexico 88005.

Documents pertinent to this proposal may be examined at the Las Cruces District Office.

FOR FURTHER INFORMATION CONTACT: For further information and/or to have your name added to our mailing list, contact Jennifer Montoya, telephone 575-525-4316; address 1800 Marquess Street, Las Cruces, New Mexico 88005; e-mail Jennifer_Montoya@nm.blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Las Cruces District Office intends to prepare an EA and possible land use plan amendment for the Mimbres Planning Area, announces the beginning of the scoping process, and seeks public input on issues and planning criteria.

The BLM is currently considering expanding the boundary of the Gila Lower Box Area of Critical Environmental Concern (ACEC), which would allow the BLM to provide special management to an area with significant scenic, cultural, and biological resources.

The public land proposed for management as an ACEC is currently not part of the ACEC and is managed in accordance with the 1993 Mimbres RMP. Therefore, the RMP may need to be amended to identify the public land as suitable for ACEC designation. The public land is a portion of and within the following areas:

New Mexico Principal Meridian

T. 19 S, R. 19 W.

T. 19 S, R. 20 W.

The purpose of the public scoping process is to determine relevant issues that will influence the scope of the environmental analysis, including alternatives, and guide the process for developing the EA. At present, the BLM has identified the following preliminary issues:

1. How should the BLM design management to enhance the watershed?

2. What management is needed to address the significant cultural resources that occur in the watershed?

3. How should the BLM address land tenure in the area considering the RMP directs the Las Cruces District Office to acquire all State trust and private land in-holdings through exchange or purchase from willing sellers?

4. How should the BLM address increased interest in renewable energy development in the area?

5. How should the BLM address the eligibility of the Gila Lower Box as a Wild and Scenic River?

6. Which lands would be appropriate for ACEC designation and what management prescriptions should apply?

7. What potential impacts would this proposed action have on neighboring private landowners?

8. What effects would this proposed action have on recreation and tourism in the area?

9. What effects would this proposed action have on agricultural activities in the area?

10. Which species will benefit from an expanded ACEC?

Authorization of this proposal requires amendment of the 1993 Mimbres RMP. By this notice, the BLM is complying with requirements in 43 CFR 1610.2(c) to notify the public of potential amendments to land use plans, predicated on the findings of the EA. If a land use plan amendment is necessary, the BLM will integrate the land use planning process with the NEPA process for this project.

The BLM will utilize and coordinate the NEPA commenting process to satisfy the public involvement process for Section 106 of the National Historic Preservation Act, 16 U.S.C. 470f, as provided for in 36 CFR 800.2(d)(3). Native American tribal consultations will be conducted in accordance with policy, and tribal concerns will be given due consideration, including impacts on Indian trust assets. Federal, State, and local agencies, along with other stakeholders that may be interested or affected by the BLM's decision on this project are invited to participate in the scoping process and, if eligible, may request or be requested by the BLM to participate as a cooperating agency.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7; 43 CFR 1610.2.

William Childress,
District Manager, Las Cruces.

[FR Doc. 2011-14496 Filed 6-10-11; 8:45 am]

BILLING CODE 4310-VC-P